DEPARTMENT OF COMMERCE

International Trade Administration

[A-570-806]

Silicon Metal From the People's Republic of China: Final Results of the Expedited Fifth Sunset Review of the Antidumping Duty Order

AGENCY: Enforcement and Compliance, International Trade Administration, Department of Commerce.

SUMMARY: As a result of this expedited sunset review, the U.S. Department of Commerce (the Department) finds that revocation of the antidumping duty order on silicon metal from the People's Republic of China (China) would likely lead to continuation or recurrence of dumping at the level indicated in the “Final Results of Sunset Review” section of this notice, infra.

DATES: Applicable September 18, 2023.

FOR FURTHER INFORMATION CONTACT: Paul Kebker or Howard Smith, AD/CVD Operations, Office IV, Enforcement and Compliance, International Trade Administration, U.S. Department of Commerce, 1401 Constitution Avenue NW, Washington, DC 20230; telephone: (202) 482-2254 or (202) 482-5193, respectively.

SUPPLEMENTARY INFORMATION:

Background

After Commerce initiated this sunset review of the order,¹ pursuant to section 751(c) of the Tariff Act of 1930, as amended (the Act), domestic interested parties ² submitted a notice of intent to participate in,³ and an adequate substantive response regarding, this sunset review within the 30-day deadline specified in 19 CFR 351.218(d)(3)(i).⁴ Commerce did not receive a substantive response from any respondent interested party. Therefore, Commerce notified the U.S. International Trade Commission that it did not receive an adequate substantive response from respondent interested parties.⁵ As a result, pursuant to section 751(c)(3)(B) of the Act and 19 CFR 351.218(e)(1)(ii)(C)(2), Commerce conducted an expedited (120-day) sunset review of the Order.

¹ See Initiation of Five-Year (Sunset) Review, 88 FR 26522 (May 1, 2023); see also Antidumping Duty Order: Silicon Metal From the People's Republic of China, 56 FR 26649 (June 10, 1991) (Order).

² The domestic interested parties are Globe Specialty Metals, Inc. (Globe) and Mississippi Silicon, LLC (Mississippi Silicon).

³ See Globe and Mississippi Silicon's, “Letter “Notice of Intent to Participate,” dated May 3, 2023.

⁴ See Globe and Mississippi Silicon's Letter, “Substantive Response to the Notice of Initiation,” dated May 30, 2023.

⁵ See Commerce's Letter, “Sunset Reviews Initiated on May 1, 2023,” dated June 20, 2023.

Scope of the Order

The merchandise covered by the Order is silicon metal containing at least 96.00 percent, but less than 99.99 percent of silicon by weight. Also covered by the order is silicon metal containing between 89.00 and 96.00 percent silicon by weight but which contains a higher aluminum content than the silicon metal containing at least 96.00 percent but less than 99.99 percent silicon by weight (58 FR 27542, May 10, 1993). Silicon metal is currently provided for under subheadings 2804.69.10 and 2804.69.50 of the Harmonized Tariff Schedule (HTSUS) as a chemical product, but is commonly referred to as a metal. Semiconductor-grade silicon (silicon metal containing by weight not less than 99.99 percent of silicon and provided for in subheading 2804.61.00 of the HTSUS) is not subject to this Order. Although the HTSUS numbers are provided for convenience and customs purposes, the written description remains dispositive.

Analysis of Comments Received

A complete discussion of all issues raised in this sunset review, specifically the likelihood of continuation or recurrence of dumping and the magnitude of the dumping margins likely to prevail if the Order were revoked, is provided in the accompanying Issues and Decision Memorandum, which is hereby adopted by this notice.⁶ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁶ See Memorandum, “Issues and Decision Memorandum for the Final Results of the Expedited Fifth Sunset Review: Silicon Metal from the People's Republic of China” (Issues and Decision Memorandum), dated concurrently with, and hereby adopted by, this notice.

Final Results of Sunset Review

Pursuant to sections 751(c)(1) and 752(c)(1) and (3) of the Act, Commerce determines that revocation of the Order would likely lead to continuation or recurrence of dumping, and that the magnitude of the dumping margins likely to prevail are weighted-average dumping margins up to 139.49 percent.

Notification Regarding Administrative Protective Orders

This notice serves as the only reminder to parties subject to an administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing the final results of this sunset review in accordance with sections 751(c), 752(c), and 777(i)(1) of the Act and 19 CFR 351.218(e)(1)(ii)(C)(2) and 19 CFR 351.221(c)(5)(ii).

Dated: August 24, 2023.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

VII. Final Results of Sunset Review

VIII. Recommendation

[FR Doc. 2023-20125 Filed 9-15-23; 8:45 am]

BILLING CODE 3510-DS-P